DEPARTMENT OF JUSTICE

Drug Enforcement Administration

[Docket No. DEA-392]

Manufacturer of Controlled Substances Registration: S & B PHARMA, INC.; Correction

ACTION: Notice of registration; correction.

SUMMARY: The Drug Enforcement Administration (DEA) published a document in the Federal Register of January 26, 2015, concerning a notice of registration that inadvertently stated no comments or objections were submitted in the notice.

Correction

In the Federal Register of January 26, 2015, FR Doc. 2015-01287 (80 FR 3988), page 3988, make the following correction. In the second column, the first paragraph of the SUPPLEMENTARY INFORMATION caption, remove the last sentence and add in its place the following:

One comment of objection was received on this registration on August 28, 2014. However, after a thorough review of this matter, the Drug Enforcement Administration has concluded that the issues raised in the comment and objection do not warrant the denial of this application.

Dated: June 1, 2015.
Joseph T. Rannazzisi,
Deputy Assistant Administrator.

[FR Doc. 2015-13832 Filed 6-5-15; 8:45 am]

BILLING CODE 4410-09-P